NUCLEAR REGULATORY COMMISSION

Advisory Committee on Reactor Safeguards; Amendment to June 3-5, 2009, ACRS Meeting—Federal Register Notice

The Federal Register Notice for the ACRS meeting scheduled to be held on June 3-5, 2009, is being amended to notify the following:

In accordance with Subsection 10(d) Public Law 92-463, it may be necessary to close portions of the meeting to discuss and protect information classified as proprietary to Mitsubishi Heavy Industries and its contractors pursuant to 5 U.S.C. 552b (c) (4).

The notice of this meeting was previously published in the Federal Register on Monday, May 18, 2009 [74 FR 23222-23224]. All other items remain the same as previously published.

Further information regarding this meeting can be obtained by contacting Girija Shukla, Cognizant ACRS staff (301-415-6855), between 7:15 a.m. and 5 p.m., (ET).

Dated: May 27, 2009.
Andrew L. Bates,
Advisory Committee Management Officer.

[FR Doc. E9-12753 Filed 6-1-09; 8:45 am]

BILLING CODE 7590-01-P